DEPARTMENT OF HOMELAND SECURITY

Coast Guard

[COTP Los Angeles-Long Beach, CA 05-003]

Area Maritime Security Committee (AMSC)—Central California (Los Angeles—Long Beach)

AGENCY: Coast Guard, DHS.

ACTION: Solicitation for membership.

SUMMARY: This notice requests individuals interested in serving on the Area Maritime Security Committee—Central California (Los Angeles-Long Beach) (CCAMSC) to submit their resumes to the Captain of the Port (COTP)/Federal Maritime Security Coordinator (FMSC) Los Angeles-Long Beach.

DATES: Requests for membership should reach the U.S. Coast Guard Captain of the Port Los Angeles-Long Beach on or before March 31, 2005.

ADDRESSES: Resumes for membership should be submitted to the COTP at the following address: Commanding Officer, USCG MSO/Group Los Angeles-Long Beach, C/O Planning Department 1001 S. Seaside Ave., Bldg. 20, San Pedro, CA 90731 or faxed to (310) 732-2018.

FOR FURTHER INFORMATION CONTACT: For questions about submitting a resume or about the AMS Committee in general, contact Mr. Robert Spaulding, AMSC Executive Administrator at (310) 356-1324.

SUPPLEMENTARY INFORMATION:

Authority

Section 102 of the Maritime Transportation Safety Act (MTSA) of 2002 (Pub. L. 107-295) added section 70112 to Title 46 of the U.S. Code, and authorizes the Secretary of the Department in which the Coast Guard is operating to establish AMSC's for any port area of the United States. (See 33 U.S.C. 1226; 46 U.S.C. Chapter 701; 33 CFR 1.05-1, 6.01; Department of Homeland Security Delegation No. 0170.1). The MTSA includes a provision exempting these AMSC's from the Federal Advisory Committee Act (FACA), Public Law 92-436, 86 Stat. 470 (5 U.S.C. App. 2). These AMSC's shall assist the Captain of the Port in the development, review, and update of the AMS Plan for their area of responsibility. Such matters may include, but are not limited to: Identifying critical port infrastructure and operations; identifying risks (threats, vulnerabilities and consequences); determining mitigation strategies and implementation methods; developing and describing the process to continually evaluate overall port security by considering consequences and vulnerabilities, how they may change over time and what additional mitigation strategies can be applied; and providing advice to and assisting the FMSC in, reviewing and updating the Central California Area Maritime Security Plan.

AMS Committee Membership

Members of the AMS Committee should have at least 4 years of experience related to maritime or port security operations. The CCAMSC has twenty (20) members. We are seeking to fill five (5) with this solicitation. At least seven of the members of the AMSC must have at least five years of experience related to maritime or port security operations. This solicitation is for members currently serving a 1-year term. We are seeking to fill the following vacancies with this solicitation:

(1) Port Hueneme Port Security Committee representative.

(2) Local Office of Emergency Services representative (Logistics Section).

(3) Local agency representative (Operations Section—Law Enforcement Subcommittee).

(4) Marine Exchange of Southern California.

(5) Political representative.

Applicants may be required to pass an appropriate security background check prior to appointment to the committee.

Members' terms of office will be for 5 years; however, a member is eligible to serve an additional term of office. Members will not receive any salary or other compensation for their service on an AMS Committee. In support of the policy of the USCG on gender and ethnic diversity, we encourage qualified women and members of minority groups to apply.

Meetings

The AMSC meets quarterly. Subcommittees and work groups convene between meetings of the parent committee. AMSC meetings normally start at 9 a.m. and alternates between the Port of Los Angeles and Port of Long Beach Buildings.

Request for Applications

Those seeking membership are encouraged to submit a resume highlighting their experience in the maritime and security industries to the COTP/FMSC. This measure ensures applicants have the prerequisite maritime security experience necessary to serve as a member on the AMSC.

Dated: February 15, 2005.
Peter V. Neffenger,
Captain, U.S. Coast Guard, Captain of the Port, Los Angeles-Long Beach.

[FR Doc. 05-3604 Filed 2-24-05; 8:45 am]

BILLING CODE 4910-15-P